DEPARTMENT OF THE INTERIOR

Fish and Wildlife Service

[FW-R2-ES-2013-N286; FRES480102200B0-XXX-FF02ENEH00]

Proposed Information Collection; Survey of Residents' Attitudes on Jaguar Conservation

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by February 18, 2014.

ADDRESSES: Send your comments on the IC to the Service Information Collection Clearance Officer, U.S. Fish and Wildlife Service, MS 2042-PDM, 4401 North Fairfax Drive, Arlington, VA 22203 (mail); or hope_grey@fws.gov (email). Please include “1018-Jaguar Resident Survey” in the subject line of your comments.

FOR FURTHER INFORMATION CONTACT: To request additional information about this IC, contact Hope Grey at hope_grey@fws.gov (email) or 703-358-2482 (telephone).

SUPPLEMENTARY INFORMATION:

I. Abstract

This survey is designed to elicit information about the public's perspectives on attitudes towards and beliefs about jaguars in the Northwestern Recovery Unit (southern Arizona and southwestern New Mexico). We plan to survey 200 residents, land-based business owners/operators, related government agency personnel, and local wildlife association and/or conservation organization members in the Northwestern Recovery Unit. The survey will gather information on people's current level of knowledge about jaguar ecology and status, people's attitudes towards jaguars, and the social barriers and opportunities to jaguar conservation in this region. The surveys will be in-person interviews. This information will aid us in identifying groups that might be interested in being involved or staying informed about jaguar conservation and highlighting groups with particular concerns that might be addressed in forthcoming policies or programs. We will use information gained from this survey to formulate future jaguar conservation strategies as well as to create educational and outreach materials for jaguar recovery.

II. Data

OMB Control Number: 1018-XXXX. This is a new collection.

Title: Survey of Residents' Attitudes on Jaguar Conservation.

Service Form Number: None.

Type of Request: Request for new OMB control number.

Description of Respondents: Individuals, businesses, organizations and State, local, or tribal governments.

Respondent's Obligation: Voluntary.

Frequency of Collection: One time.

Estimated Number of Annual Responses: 200.

Estimated Completion Time per Response: 15 minutes.

Estimated Total Annual Burden Hours: 50 hours.

Estimated Annual Nonhour Burden Cost: None.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: December 12, 2013.
Tina A. Campbell,
Chief, Division of Policy and Directives Management, U.S. Fish and Wildlife Service.

[FR Doc. 2013-29923 Filed 12-16-13; 8:45 am]

BILLING CODE 4310-55-P